DEPARTMENT OF THE INTERIOR

National Park Service

[NPS-WASO-NRNHL-DTS#-31776; PPWOCRADI0, PCU00RP14.R50000]

National Register of Historic Places; Notification of Pending Nominations and Related Actions

AGENCY: National Park Service, Interior.

ACTION: Notice.

SUMMARY: The National Park Service is soliciting electronic comments on the significance of properties nominated before April 10, 2021, for listing or related actions in the National Register of Historic Places.

DATES: Comments should be submitted electronically by May 12, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before April 10, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Cleveland County

Rison Overpass, AR 35 (Magnolia St.) over the Union Pacific RR., Rison, SG100006533

Columbia County

McNeil Overpass, U.S. 79 over the Union Pacific RR., McNeil, SG100006535

Drew County

Science Building, 562 University Dr., Monticello, SG100006534

Garland County

Hot Springs Masonic Temple, 311 West Grand Ave., Hot Springs, SG100006532

Jefferson County

U.S. 65 Expressway Pedestrian Bridge, Spanning the Martha Mitchell Expwy. at Mulberry St., Pine Bluff, SG100006530

Lawrence A. Davis, Sr., Student Union, 2000 LA Prexy Davis Dr., Pine Bluff, SG100006531

Phillips County

Berger, Dr. Alfred A. and Adele, House, 121 Stonebrook Rd., Helena-West Helena, SG100006536

Helena World Building, 417 York St., Helena-West Helena, SG100006537

Pulaski County

Reutlinger House, 2005 South Spring St., Little Rock, SG100006527

Franke-Watson House, 30 Edgehill Rd., Little Rock, SG100006528

K.C. Baking Powder Building, 3401 East Broadway, North Little Rock, SG100006529

Sebastian County

Jewish Cemetery, 1601 South H St., Fort Smith, SG100006538

DISTRICT OF COLUMBIA

District of Columbia

Colony Hill Historic District, 1700-1731, 1800-1821, 4501-4520 Hoban Rd. NW, 1801-1820 45th St. NW, 4407-4444, Hadfield Rd. NW, 1701-1717 Foxhall Rd. NW, Washington, SG100006546

IOWA

Polk County

Valley Auto Co.—Morgan Auto Co. Garage, 333 5th St., West Des Moines, SG100006523

Poweshiek County

Brooklyn Opera House—Broadway Theatre, 115 Jackson St., Brooklyn, SG100006522

NEW YORK

Albany County

Park Mart, 93 North Pearl St., Albany, SG100006516

Essex County

Westport Historic District, Generally Champlain Ave., Main, Cisco, and Washington Sts., Westport, SG100006513

Greene County

Village of Coxsackie Cemetery, 144 Mansion St., Coxsackie, SG100006511

Jefferson County

Ballard, Samuel F., House (Stone Buildings of Jefferson County, New York, ca. 1800-1875 MPS), 15811 Cty. Rd. 64, Watertown, MP100006515

Rensselaer County

Harder Manufacturing Company—Albany Woolen Company Inc. Building, 2 Green St., Rensselaer, SG100006510

Saratoga County

Church Hill Historic District, Terminal and Church Hill Rds., Halfmoon, SG100006512

Schenectady County

Fitzgerald Building, 144-148 Clinton St., Schenectady, SG100006517

PENNSYLVANIA

Blair County

Chimney Rocks, Chimney Rocks Park (Chimney Rocks Rd.), Hollidaysburg, SG100006540

TEXAS

Galveston County

American National Insurance Company (ANICO) 1 Moody Ave. (1902 Market St.), Galveston, SG100006539

Bayou Brae Historic District, All properties on Bayou Dr., Brae Ln., Coryell St., Oboe Trail, Woodwind Way, and Viola Dr., League City, SG100006547

Tarrant County

Knight, Elizabeth and Jack, House, 2811 Simondale Dr., Fort Worth, SG100006521

VIRGINIA

Arlington County

Windsor Apartments (Garden Apartments, Apartment Houses and Apartment Complexes in Arlington County, Virginia MPS) 20-204 North Thomas St., Arlington, MP100006520

Virginia Beach Independent City

Jefferson Manor Motel Apartments (Virginia Beach Oceanfront Resort Motels and Hotels, 1955-1970 MPS) 3300 Pacific Ave., Virginia Beach, MP100006519

An owner objection received for the following resource:

TEXAS

El Paso County

Downtown El Paso Historic District, Roughly bounded by Paisano Dr., Kansas St., Missouri Ave., South Santa Fe St., and U.S. 85, El Paso, SG100006548

A request for removal has been made for the following resources:

ARKANSAS

Jefferson County

Pine Bluff Confederate Monument (Civil War Commemorative Sculpture MPS) North side of Jefferson Cty. Courthouse, jct. of Barraque and Main Sts., Pine Bluff, OT96000464

Pulaski County

Mitchell House (Thompson, Charles L., Design Collection TR) 1415 Spring St., Little Rock, OT82000910

Memorial to Company A, Capitol Guards (Civil War Commemorative Sculpture MPS) MacArthur Park, roughly bounded by 9th and 17th Sts. between Rock St. and I-30, Little Rock, OT96000451

Washington County

Fletcher, Adrian, House (Arkansas Designs of E. Fay Jones MPS) 6725 Huntsville Rd., Fayetteville, OT13000317

Authority: Section 60.13 of 36 CFR part 60.

Dated: April 13, 2021.
Sherry Frear,
Chief, National Register of Historic Places/National Historic Landmarks Program.

[FR Doc. 2021-08778 Filed 4-26-21; 8:45 am]

BILLING CODE 4312-52-P